DEPARTMENT OF ENERGY

Federal Energy Regulatory Commission

[Project No. 4609-007]

New Hampshire Wood Products Company Bath Electric Power Company LLC; Notice of Transfer of Exemption

1. By letter filed November 26, 2013, Bath Electric Power Company LLC parent company of New Hampshire Wood Products Company informed the Commission that the exemption from licensing for the Ammonoosuc River Dam Project, FERC No. 4609, originally issued January 11, 1982,¹ has been transferred to Bath Electric Power Company LLC. The project is located on the Ammonoosuc River in Grafton County, New Hampshire. The transfer of an exemption does not require Commission approval.

¹ 18 FERC ¶ 62,026, Notice of Approval by Operation of Law.

2. Bath Electric Power Company LLC is now the exemptee of the Ammonoosuc River Dam Project, FERC No. 4609. All correspondence should be forwarded to: Bath Electric Power Company LLC, 112 Terrace Drive, North Haverhill, NH 03774.

Dated: Issued February 3, 2014.
Kimberly D. Bose,
Secretary.

[FR Doc. 2014-02741 Filed 2-7-14; 8:45 am]

BILLING CODE 6717-01-P